ENVIRONMENTAL PROTECTION AGENCY

[EPA-HQ-OPP-2016-0108; FRL-10016-66-OMS]

Agency Information Collection Activities; Renewal Request Submitted to OMB for Review and Approval; Comment Request; Notice of Supplemental Distribution of a Registered Pesticide Product (Renewal)

AGENCY: Environmental Protection Agency (EPA).

ACTION: Notice.

SUMMARY: The Environmental Protection Agency (EPA) has submitted an information collection request (ICR), Notice of Supplemental Distribution of a Registered Pesticide Product (EPA ICR Number 0278.13, OMB Control Number 2070-0044) to the Office of Management and Budget (OMB) for review and approval in accordance with the Paperwork Reduction Act. This is a proposed extension of the ICR, which is currently approved through February 28, 2021. EPA previously provided a 60-day public review opportunity via the Federal Register on August 17, 2020. With this submission, EPA is providing an additional 30-days for public review. A fuller description of the ICR is given below, including its estimated burden and cost to the public. An Agency may not conduct or sponsor and a person is not required to respond to a collection of information unless it displays a currently valid OMB control number.

DATES: Comments must be received on or before June 9, 2021.

ADDRESSES: Submit your comments to EPA referencing Docket ID No. EPA-HQ-OPP-2016-0108, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division (7101M), Office of Program Support, Environmental Protection Agency, 1200 Pennsylvania Ave. NW, Washington, DC 20460; telephone number: (703) 347-0159; email address: siu.carolyn@epa.gov.

SUPPLEMENTARY INFORMATION: Supporting documents, including the ICR that explains in detail the information collection activities and the related burden and cost estimates that are summarized in this document, are available in the docket for this ICR. The docket can be viewed online at www.regulations.gov or in person at the EPA Docket Center, WJC West. Room. 3334, 1301 Constitution Ave. NW, Washington, DC. The telephone number for the Docket Center is (202) 566-1744. For additional information about EPA's public docket, visit http://www.epa.gov/dockets.

Abstract: This information collection activity notifies the EPA of supplemental distribution of registered pesticide products. As mandated by FIFRA, as amended, EPA is responsible for the regulation of pesticides. FIFRA section 3(e) (7 U.S.C. 136a(e)) allows pesticide products with the same formulation, label claims, and manufacturer as a registered product to be distributed under the same registration as the basic product. Pesticide registrants may distribute or sell registered pesticides under a different product name in addition to the registered name, or under a different entity's name and address. Such distribution and sale are termed “supplemental distribution” and the product is termed a “distributor product.” EPA requires pesticide registrants who enter into supplemental distribution agreements with other companies to submit EPA Form 8570-5, Notice of Supplemental Distribution of a Registered Pesticide Product. Supplemental registrations are only an extension of a currently federally registered pesticide product.

Form Number: 8570-5.

Respondents/Affected Entities: Pesticide and other agricultural chemical manufacturing.

Respondent's obligation to respond: Mandatory pursuant to Section 3(e) of FIFRA, as amended. Regulations pertaining to supplemental distribution of pesticide products are contained in Title 40 CFR part 152.132.

Estimated number of respondents: 1,885 (total).

Frequency of response: On occasion.

Total estimated burden: 603 hours (per year). Burden is defined at 5 CFR 1320.03(b).

Total estimated costs: $54,463 (per year), includes $0 annualized capital or operation & maintenance costs.

Changes in the estimates: There are no changes in the estimated respondent burden compared with that identified in the ICR currently approved by OMB.

Courtney Kerwin,
Director, Regulatory Support Division.

[FR Doc. 2021-09795 Filed 5-7-21; 8:45 am]

BILLING CODE 6560-50-P